DEPARTMENT OF ENERGY

Federal Energy Regulatory Commission

[Docket No. OR078-18-000, Docket No. OR07-19-000]

America West Airlines, Inc., Chevron Products Company, Continental Airlines, Inc., Northwest Airlines, Inc., Southwest Airlines, Co., US Airways, and Valero Marketing and Supply Company v. Calnev Pipe Line, L.L.C.; ConocoPhillips Co. v. Calnev Pipe Line, L.L.C. (Not Consolidated); Notice of Amended Complainant

February 14, 2008.

Take notice that on February 11, 2008, America West Airlines, Inc., Chevron Products Company, Continental Airlines, Inc., Northwest Airlines, Inc., Southwest Airlines Co., U.S. Airways, Inc., and Valero Marketing and Supply Company (collectively, Joint Complainants), tendered for filing an amendment to the Joint Complaint filed by Joint Complainants on August 20, 2007, against Calnev Pipe Line, L.L.C. Joint Complainants state that, except as modified and supplemented by this amendment, the allegations and supporting evidence contained in the original complaint remain unchanged. In the instant filing, Joint Complainants amend their complaint to include supplemental analysis.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 3, 2008.

Kimberly D. Bose,
Secretary.

[FR Doc. E8-3280 Filed 2-21-08; 8:45 am]

BILLING CODE 6717-01-P